NUCLEAR REGULATORY COMMISSION

Notice of Issuance of Director's Decision Under 10 CFR 2.206

Docket No. 030-28641, License No. 42-23539-01AF, Department of the Air Force.

Docket No. 040-06394, License No. SMB-141, Department of the Army.

Docket No. 040-07086, License No. SUB-734, Department of the Army.

Docket No. 040-08814, License No. SMB-1411, Department of the Army.

Docket No. 040-08838, License No. SUB-1435, Department of the Army.

Docket No. 040-07354, License No. SUB-834, Department of the Army.

Docket No. 040-08850, License No. SUB-1440, Department of the Army.

Docket No. 040-08779, License No. SUC-1391, Department of the Army.

Docket No. 040-08767, License No. SUC-1380, Department of the Army.

Docket No. 030-29462, License No. 45-23645-01NA, Department of the Navy.

Notice is hereby given that the Director, Nuclear Material Safety and Safeguards, has issued a Director's Decision on a petition dated April 3, 2005, filed by Mr. James Salsman, hereinafter referred to as the “Petitioner.” The petition was supplemented on April 26, 2005, and May 4, 2005. The petition concerns depleted uranium (DU) munition licensees, specifically the Departments of the Air Force, Army, and Navy, and ATK Tactical Systems Company, LLC.

The petition requested the U.S. Nuclear Regulatory Commission (NRC) to fine the licensees and modify their licenses. The Petitioner's concerns revolve around the combustion products of DU munitions, specifically hexavalent uranium trioxide (UO3).

Petitioner asserts that the licensees never attempted to detect, never detected, and failed to recognize that hexavalent UO3 is a hazardous combustion product when DU munitions are fired and heated at high temperatures. Petitioner contends that DU munitions licensed activity is unsafe and in violation of NRC requirements.

On May 4, 2005, Petitioner met with the NRC staff's Petition Review Board via telephone. The meeting gave the Petitioner and the licensees an opportunity to provide additional information and to clarify issues raised in the petition.

NRC staff sent a copy of the proposed Director's Decision to the Petitioner and to all DU munition licenses for comment on September 22, 2005. Petitioner responded with comments on October 19, 2005, and the licensees responded on October 12, 2005 (Army), and October 17, 2005 (Air Force). The comments are addressed in the Director's Decision.

The Director of the Office of Nuclear Material Safety and Safeguards has determined that insofar as Petitioner requests, NRC to require DU munition licensees to report incidents and overexposures to NRC, and to remediate facilities in accordance with current regulations, Petitioner's requests are granted. The Director also has decided to deny Petitioner's requests for modification and/or revocation of DU munitions licenses and for imposition of fines because Petitioner did not demonstrate that DU munitions licensees violated any NRC requirement, or that licensed activity creates conditions hazardous to the public health and safety or to the environment not already considered in licensing or addressed by NRC requirements. The reasons for these decisions are fully explained in the Director's Decision pursuant to 10 CFR 2.206 (DD-05-08), the complete text of which is available in Agencywide Document Access and Management System (ADAMS) for inspection at the Commission's Public Document Room, located at One White Flint North, 11555 Rockville Pike (first floor), Rockville, Maryland, and via NRC's Web site (http://www.nrc.gov) on the World-Wide Web, under the “Public Involvement” icon. Accession Number for the Director's Decision is ML053460450.

A copy of the Director's Decision will be filed with the Secretary of the Commission, for the Commission's review, in accordance with 10 CFR 2.206 of the Commission's regulations. As provided for by this regulation, the Director's Decision will constitute the final action of the Commission 25 days after the date of the decision, unless the Commission, on its own motion, institutes a review of the Director's Decision in that time.

Dated at Rockville, Maryland, this 30th day of December 2005.
For the Nuclear Regulatory Commission
Robert C. Pierson,
Acting Director, Office of Nuclear Material Safety and Safeguards.

[FR Doc. E6-60 Filed 1-6-06; 8:45 am]

BILLING CODE 7590-01-P